NATIONAL FOUNDATION ON THE ARTS AND THE HUMANITIES

National Endowment for the Arts; Arts Advisory Panel

Pursuant to Section 10(a)(2) of the Federal Advisory Committee Act (Pub. L. 92-463), as amended, notice is hereby given that twelve meetings of the Arts Advisory Panel to the National Council on the Arts will be held at the Nancy Hanks Center, 1100 Pennsylvania Avenue, NW., Washington, DC 20506 as follows (ending times are approximate):

Opera (application review): June 29-30, 2009 in Room 716. A portion of this meeting, from 3:15 p.m. to 4:15 p.m. on June 30th, will be open to the public for policy discussion. The remainder of the meeting, from 8:45 a.m. to 5:30 p.m. on June 29th and from 9 a.m. to 3:15 p.m. and 4:15 p.m. to 4:45 p.m. on June 30th, will be closed.

Theater (application review): June 29-July 2, 2009 in Room 730. This meeting, from 9 a.m. to 5:30 p.m. on June 29th, from 9 a.m. to 6 p.m. on June 30th-July 1st, and from 9 a.m. to 3 p.m. on July 2nd, will be closed.

Opera (application review): July 1-2, 2009 in Room 716. A portion of this meeting, from 3:30 p.m. to 4:30 p.m. on July 2nd, will be open to the public for policy discussion. The remainder of the meeting, from 8:45 a.m. to 5:30 p.m. on July 1st and from 9 a.m. to 3:30 p.m. and 4:30 p.m. to 5 p.m. on July 2nd, will be closed.

Music (application review): July 7-9, 2009 in Room 714. This meeting, from 9 a.m. to 6 p.m. on July 7th and 8th, and from 9 a.m. to 5 p.m. on July 9th, will be closed.

Music (application review): July 14-15, 2009 in Room 714. This meeting, from 9 a.m. to 6 p.m. on July 14th and from 8:30 a.m. to 5:45 p.m. on July 15th, will be closed.

Theater (application review): July 14-17, 2009 in Room 730. This meeting, from 9 a.m. to 5:30 p.m. on July 14th, from 9 a.m. to 6 p.m. on July 15th-16th, and from 9 a.m. to 3 p.m. on July 17th, will be closed.

Music (application review): July 16-17, 2009 in Room 714. This meeting, from 9 a.m. to 6 p.m. on July 16th and from 8:30 a.m. to 5:45 p.m. on July 17th, will be closed.

Artists Communities (application review): July 21-22, 2009 in Room 730. A portion of this meeting, from 3:45 p.m. to 4:30 p.m. on July 22nd, will be open to the public for policy discussion. The remainder of the meeting, from 9 a.m. to 5:30 p.m. on July 21st and from 9 a.m. to 3:45 p.m. on July 22nd, will be closed.

Museums (application review): July 21-24, 2009 in Room 716. This meeting, from 9 a.m. to 5:30 p.m. on July 21st, from 9 a.m. to 6 p.m. on July 22nd-23rd, and from 9 a.m. to 4 p.m. on July 24th, will be closed.

Presenting (application review): July 27-28, 2009 in Room 716. This meeting, from 8:30 a.m. to 5 p.m. on July 27th and from 9 a.m. to 1:15 p.m. on July 28th, will be closed.

Presenting (application review): July 28-29, 2009 in Room 716. This meeting, from 2:15 p.m. to 5 p.m. on July 28th and from 9 a.m. to 4 p.m. on July 29th, will be closed.

Music (application review): July 30-31, 2009 in Room 714. This meeting, from 9 a.m. to 6 p.m. on July 30th and from 8:30 a.m. to 5:45 p.m. on July 31st, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: June 8, 2009.
Kathy Plowitz-Worden,
Panel Coordinator, Panel Operations, National Endowment for the Arts.

[FR Doc. E9-13815 Filed 6-11-09; 8:45 am]

BILLING CODE 7537-01-P